POSTAL RATE COMMISSION

Sunshine Act Meetings

Name of Agency: Postal Rate Commission.

Time and Date: Monday, August 28, 2006, at 3 p.m.

Place: Commission conference room, 901 New York Avenue, NW., Suite 200, Washington, DC 20268-0001.

Status: Open.

Matters to be Considered: Consideration of fiscal year 2007 budget and election of vice chairman.

FOR FURTHER INFORMATION CONTACT: Stephen L. Sharfman, General Counsel, at 202-789-6820.

Dated: August 24, 2006.
Steven W. Williams,
Secretary.

[FR Doc. 06-7234 Filed 8-24-06; 4:37 pm]

BILLING CODE 7710-FW-M